SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before July 18, 2023.

ADDRESSES: Send all comments regarding whether this information collection is necessary for the proper performance of the function of the agency, whether the burden estimates are accurate, and if there are ways to minimize the estimated burden and enhance the quality of the collection, to Marybeth Kerrigan, Financial Analyst, Office of Financial Assistance Small Business Administration, Washington, DC 20416.

FOR FURTHER INFORMATION CONTACT: Marybeth Kerrigan, Financial Analyst, mary.kerrigan@sba.gov. Curtis B. Rich, Agency Clearance Officer, (202) 205-7030 curtis.rich@sba.gov

SUPPLEMENTARY INFORMATION: The Small Business Administration requires information to be disclosed to the buyer when a secondary market loan is transferred from one investor to another. This information includes a constant annual prepayment rate based upon the seller's analysis of prepayment histories of SBA guaranteed loans with similar maturities. Additionally, information is required on the terms, conditions and yield of the security being transferred.

OMB Control Number: 3245-0212.

Title: “Form of Detached Assignment for U.S. Small Business Administration Loan Pool or Guarantee Interest Certificate”.

Description of Respondent: Secondary market.

Form Number: 1088.

Annual Responses: 856.

Annual Burden: 733.

Curtis Rich,
Agency Clearance Officer.

[FR Doc. 2023-10741 Filed 5-18-23; 8:45 am]

BILLING CODE 8026-09-P